DEPARTMENT OF LABOR

Mine Safety and Health Administration

[OMB Control No. 1219-0034]

Proposed Extension of Information Collection; Records of Tests and of Examinations of Personnel Hoisting Equipment

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection for Records of Tests and of Examinations of Personnel Hoisting Equipment.

DATES: All comments must be received on or before October 2, 2023.

ADDRESSES: Comments concerning the information collection requirements of this notice may be sent by any of the methods listed below. Please note that late, untimely filed comments will not be considered.

• Federal E-Rulemaking Portal: http://www.regulations.gov. Follow the on-line instructions for submitting comments for docket number MSHA-2023-0036.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

Section 103(h) of the Federal Mine Safety and Health Act of 1977 (Mine Act), Public Law 95-164 as amended, 30 U.S.C. 813(h), authorizes Mine Safety and Health Administration (MSHA) to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal and metal and nonmental mines.

MSHA's mandatory standards for hoists and appurtenances, including wire rope, used for hoisting persons for both surface and underground metal and nonmetal mines are referenced in 30 CFR 56 and 30 CFR 57, for underground coal mines in 30 CFR 75, and for surface coal mines and surface work areas of underground coal mines in 30 CFR 77.

Initial Wire Rope Diameter Measurement

30 CFR 56.19022, 30 CFR 57.19022, 30 CFR 75.1432 and 30 CFR 77.1432 require the diameter of newly installed wire rope to be measured at least once in every third interval of the rope's active length to establish a baseline for subsequent semiannual measurements. A record of the measurements is required to be made and retained until the rope is retired from service.

Biweekly and Daily Visual Examinations of Wire Ropes and Hoists

30 CFR 56.19023(a), 57.19023(a), 75.1433(a), and 77.1433(a) require the wire rope to be examined visually at least every fourteen days for visible structural damage, corrosion, and improper lubrication or dressing. If the examination reveals weakening portions of the rope, the weakened portions must be monitored daily for further deterioration until retirement criteria require that the rope be removed from service. 30 CFR 56.19023(d), 57.19023(d), 75.1433(d), and 77.1433(d) require that the person conducting the examination must certify that the examination was made and the condition of weakening portions. The records must be retained for one year.

30 CFR 56.19121 and 30 CFR 57.19121 require the person conducting the inspections, tests, or examinations of hoisting equipment to certify by signature and date that these activities have been done. A record of any part that is not functioning properly must be made and dated. All certifications and records must be retained for 1 year.

30 CFR 75.1400-3 and 77.1403 require hoists and elevators to be examined daily. 30 CFR 75.1400-4 and 77.1404 require a record to be made of each daily examination, including the condition and date if any unsafe condition is found during the examination. All certifications and records must be retained for 1 year.

30 CFR 77.1906 requires a daily examination of hoists used to transport persons. The person making the examination must certify that the examination has been made. If any unsafe condition is found during the examination, the person conducting the examination must make a record of the condition. All certifications and records must be retained for 1 year.

Semiannual Tests and Measurement of Wire Ropes

30 CFR 56.19023(c), 57.19023(c), 75.1433(c), and 77.1433(c) also require, at least once every six months, mine operators to conduct nondestructive tests of the active length of the rope or measure rope diameter, wherever wear is evident or at regular stopping points, or the rope rests on sheaves or leaves the drum, or at drum cross over and changing-of-layer regions. 30 CFR 56.19023(e), 57.19023(e), 75.1433(c), and 77.1433(c) require the records of nondestructive tests and measurements must be dated and retained until the rope is retired from service.

Safety Catches

30 CFR 75.1400(c) requires that cages, platforms, or other devices used to transport persons in shafts and slopes shall be equipped with safety catches or other no less effective devices approved by the Secretary that act quickly and effectively in an emergency. Such catches or devices shall be tested at least once every two months. 30 CFR 75.1400-2 requires a record to be made of tests conducted on safety catches. Each entry must be signed by the person performing the tests and countersigned by a responsible official.

II. Desired Focus of Comments

MSHA is soliciting comments concerning the proposed information collection related to Records of Tests and of Examinations of Personnel Hoisting Equipment. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on http://www.regulations.gov. MSHA cautions the commenter against providing any information in the submission that should not be publicly disclosed. Full comments, including personal information provided, will be made available on www.regulations.gov and www.reginfo.gov.

The public may also examine publicly available documents at DOL-MSHA, Office of Standards, Regulations, and Variances, 201 12th Street South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION section of this notice.

III. Current Actions

This request for collection of information contains provisions for Records of Tests and of Examinations of Personnel Hoisting Equipment. MSHA has updated the data with respect to the number of respondents, responses, burden hours, and burden costs supporting this information collection request.

Type of Review: Extension, without change, of a currently approved collection.

Agency: Mine Safety and Health Administration.

OMB Number: 1219-0034.

Affected Public: Business or other for-profit.

Number of Annual Respondents: 225.

Frequency: On occasion.

Number of Annual Responses: 61,265.

Annual Burden Hours: 5,114 hours.

Annual Respondent or Recordkeeper Cost: $270,000.

Comments submitted in response to this notice will be summarized and included in the request for Office of Management and Budget approval of the information collection request; they will also become a matter of public record.

Song-ae Aromie Noe,
Certifying Officer, Mine Safety and Health Administration.

[FR Doc. 2023-16259 Filed 7-31-23; 8:45 am]

BILLING CODE 4510-43-P